NATIONAL SCIENCE FOUNDATION

Notice of Permit Applications Received Under the Antarctic Conservation Act of 1978

AGENCY: National Science Foundation.

ACTION: Notice of permit applications received.

SUMMARY: The National Science Foundation (NSF) is required to publish a notice of permit applications received to conduct activities regulated under the Antarctic Conservation Act of 1978. NSF has published regulations under the Antarctic Conservation Act in the Code of Federal Regulations. This is the required notice of permit applications received.

DATES: Interested parties are invited to submit written data, comments, or views with respect to this permit application by September 13, 2023. This application may be inspected by interested parties at the Permit Office, address below.

ADDRESSES: Comments should be addressed to Permit Office, Office of Polar Programs, National Science Foundation, 2415 Eisenhower Avenue, Alexandria, Virginia 22314 or ACApermits@nsf.gov.

FOR FURTHER INFORMATION CONTACT: Andrew Titmus, ACA Permit Officer, at the above address, 703-292-4479.

SUPPLEMENTARY INFORMATION: The National Science Foundation, as directed by the Antarctic Conservation Act of 1978 (Pub. L. 95-541, 45 CFR 671), as amended by the Antarctic Science, Tourism and Conservation Act of 1996, has developed regulations for the establishment of a permit system for various activities in Antarctica and designation of certain animals and certain geographic areas as requiring special protection. The regulations establish such a permit system to designate Antarctic Specially Protected Areas.

Application Details

Permit Application: 2024-006

1. Applicant: Megan Cimino, University of California at Santa Cruz, 1156 High Street, Santa Cruz, CA 95064.

Activity for Which Permit is Requested: Take, Harmful Interference, Enter Antarctic Specially Protected Areas (ASPAs), and Import into USA. The applicant would conduct research as part of the Palmer Station Long-Term Ecological Research Program (Palmer LTER) relating variability in seabird ecology to changes in the physical and biological environment, especially sea ice, snow conditions and the availability of prey. The research would comprise two complimentary components at summer breeding colonies of seabirds and in their pelagic marine foraging environment. The applicant would continue long term-research efforts to assess how annual environmental variability affects seabird diets, breeding success, growth rates, survival and recruitment, behavior, population trends, foraging success and seasonal dispersal. The applicant would engage in take by capture and release in order to (1) census populations and mark breeding territories; (2) capture, mark, band and/or weigh adults, chicks and eggs; (3) obtain diet samples by stomach lavage, by screening contents of terrestrial sediment traps and/or by collecting regurgitated or defecated prey items; (4) place biologging devices on individuals; (5) place instrumented artificial eggs under incubating individuals; (6) obtain tissue samples from adults and chicks (e.g., preen gland oil, blood, feathers, egg yolk, toenails); (7) collect addled/infertile eggs no longer being incubated; (8) use GPS/GIS technologies to update existing breeding habitat maps; (9) salvage dead specimens for educational purposes; and (10) collect fecal samples using cloacal swabs. The applicant would use all/some of the above methods on the following species: Adelie Penguin, Chinstrap Penguin, Gentoo Penguin, Brown Skua, South Polar Skua, Southern Giant Petrel, Blue-Eyed Shag, Kelp Gull, Snowy Sheathbill. All seabirds involved in this research would be released unharmed. Up to four time-lapse cameras attached to poles on square bases anchored by rocks would be deployed to monitor penguin occupation patterns. To conduct the research, the applicant would enter the following Antarctic Specially Protected Areas: ASPA 107, Dion Islands; ASPA 113, Litchfield Island; ASPA 115, Lagotellerie Island; ASPA 117, Avian Island; ASPA 139, Biscoe Point; ASPA 170, Charcot Island; and ASPA 176 Rosenthal Islands.

Location: Palmer Station area, Antarctic Peninsula; ASPA 107, Dion Islands; ASPA 113, Litchfield Island; ASPA 115, Lagotellerie Island; ASPA 117, Avian Island; ASPA 139, Biscoe Point; ASPA 170, Charcot Island; and ASPA 176 Rosenthal Islands.

Dates of Permitted Activities: October 1, 2023—September 30, 2028.

Kimiko S. Bowens-Knox,
Program Analyst, Office of Polar Programs.

[FR Doc. 2023-17358 Filed 8-11-23; 8:45 am]

BILLING CODE 7555-01-P